DEPARTMENT OF LABOR

Employment and Training Administration

[NAFTA-TAA-04482]

Master Pattern, Inc., Norton Shores, Michigan; Dismissal of Application for Reconsideration

Pursuant to 29 CFR 90.18(C) an application for administrative reconsideration was filed with the Director of the Division of Trade Adjustment Assistance for workers at Master Pattern, Inc., Norton Shores, Michigan. The application contained no new substantial information which would bear importantly on the Department's determination. Therefore, dismissal of the application was issued.

NAFTA-TAA-04482; Master Pattern, Inc. Norton Shores, Michigan (May 23, 2001)

Signed at Washington, DC, this 24th day of May, 2001.
Edward A. Tomchick,
Director, Division of Trade Adjustment Assistance.

[FR Doc. 01-14420 Filed 6-7-01; 8:45 am]

BILLING CODE 4510-30-M